DEPARTMENT OF THE INTERIOR

Bureau of Land Management

[CACA 49537, LLCAD08000, L51030000.FX0000, LVRAB109AA03]

Notice of Availability of the Final Environmental Impact Statement and Proposed Amendment to the California Desert Conservation Area Plan for the Calico Solar (Formerly SES Solar One) Project, San Bernardino County, CA

AGENCY: Bureau of Land Management, Interior.

ACTION: Notice of Availability.

SUMMARY: In accordance with the National Environmental Policy Act of 1969, as amended (NEPA), and the Federal Land Policy and Management Act of 1976, as amended (FLPMA), the Bureau of Land Management (BLM) has prepared a Proposed Resource Management Plan (RMP) Amendment/Final Environmental Impact Statement (EIS) for the Calico Solar (formerly SES Solar One) Project, San Bernardino County, California and for the California Desert Conservation Area (CDCA) Plan and by this notice is announcing the availability of the Final EIS.

DATES: The publication of the Environmental Protection Agency's (EPA) Notice of Availability of this Final EIS in the Federal Register initiates a 30-day public comment period (see ADDRESSES section). In addition, the BLM's planning regulations state that any person who meets the conditions as described in the regulations may protest the agency's Proposed RMP Amendment. A person who meets the conditions and files a protest must file the protest within 30 days of the date that the Environmental Protection Agency (EPA) publishes its notice in the Federal Register (see ADDRESSES section).

ADDRESSES: Please submit comments on the Final EIS to Jim Stobaugh, National Project Manager by mail: P.O. Box 12000, Reno, Nevada 89520; or e-mail: Jim_Stobaugh@blm.gov. Copies of the Proposed RMP Amendment/Final EIS are available for public inspection at the BLM Barstow Field Office, 2601 Barstow Road, Barstow, California 92311. Interested persons may also review the Proposed RMP Amendment/Final EIS at the following Web site: http://www.blm.gov/ca/st/en/fo/barstow/solar_one_calico.html. All protests of the Proposed RMP amendment must be in writing and mailed to one of the following addresses:

Regular Mail: BLM Director (210), Attention: Brenda Williams, P.O. Box 66538, Washington, DC 20035.

Overnight Mail: BLM Director (210), Attention: Brenda Williams, 1620 L Street, NW., Suite 1075, Washington, DC 20036.

FOR FURTHER INFORMATION CONTACT: Jim Stobaugh, BLM National Project Manager by mail: P. O. Box 12000, Reno, Nevada 89520; phone: (775) 861-6478; or e-mail: Jim_Stobaugh@blm.gov.

SUPPLEMENTARY INFORMATION: On March 14, 2007, Stirling Energy Systems (SES) Solar Six, Limited Liability Corporation (LLC) and SES Solar Three, LLC submitted applications for rights-of-way (ROW) grants to the BLM to construct and operate a concentrated solar thermal power plant facility on public lands in San Bernardino County, California. The two ROW application areas were subsequently combined into one project (SES Solar One) proposed for an 8,230-acre site located immediately north of Interstate 40, approximately 37 miles east of Barstow, California. On December 2, 2008, SES Solar One, LLC (SES Solar Three, LLC and SES Solar Six, LLC) submitted an Application for Certification to the California Energy Commission (CEC) to construct and operate the SES Solar One Project. In January 2010, the project name was formally changed to Calico Solar as a result of SES Solar Three, LLC merging with SES Solar Six, LLC to create Calico Solar, LLC. Calico Solar, LLC is a subsidiary of Tessera Solar.

The BLM's purpose and need for the Calico Solar Project is to respond to the Calico Solar, LLC's application under Title V of FLPMA (43 U.S.C. 1761) for a ROW grant to construct, operate, and decommission a solar thermal power facility on public lands in compliance with FLPMA, the BLM's ROW regulations, and other applicable Federal laws.

A joint state-Federal environmental Staff Assessment (SA)A/Draft EIS of the Calico Solar Project was prepared in accordance with a 2007 Memorandum of Understanding between the BLM California Desert District and CEC to conduct joint environmental reviews of solar thermal projects that are proposed on Federal land managed by the BLM. The joint environmental review was achieved through in a single combined California Environmental Quality Act/NEPA analysis SA/Draft EIS document.

In the SA/Draft EIS, the proposed project was described to include construction of an 850 megawatt (MW), 8,230-acre (13 square mile) solar energy facility on BLM-administered land. Approximately 1,718 acres of public land within the project site were either donated to the BLM or acquired with Land and Water Conservation Funds (LWCF).

In the Final EIS, the BLM modified the proposed project (Proposed Action) to form an Agency Preferred Alternative which reduces the project footprint to 6,215-acres (9.7 square miles) for the 850 MW Calico Solar Project facilities. The Agency Preferred Alternative is designed to avoid 1,770 acres of habitat for desert tortoise, bighorn sheep, and rare plants through the creation of a 4000-foot wildlife corridor between the north project boundary and the Cady Mountains. It also avoids impacts to rare plants within environmentally-sensitive areas within the project boundary and excludes 245 acres of land with cultural resources outside of the project site, which eliminates adverse impacts and mitigation needs for these resources.

The project proposal includes 34,000, 25-kilowatt (kW) Stirling solar dish systems (SunCatchers). Each SunCatcher consists of an approximately 38-foot high by 40-foot wide solar concentrator dish that supports an array of curved glass mirrors. These mirrors automatically track the sun and focus solar energy onto a power conversion unit that generates electricity. The Calico Solar Project would also include a number of related facilities and infrastructure, including: A new 230-kilovolt (kV) Calico Solar Substation; about 2 miles of single-circuit 230-kV interconnection transmission line from the new Calico Substation to the existing Southern California Edison (SCE) Pisgah Substation; an administration building; a main services complex; and Project roads and fencing. Approximately 0.1 miles of the new 230-kV transmission line would be outside of the project site and inside the SCE ROW.

The proposed solar facility has an estimated life span of 30 years. The BLM is considering a renewable 20-year ROW grant authorization to align with the 20-year Power Purchase Agreement signed by the Applicant and SCE on August 9, 2005. Upgrades to the SCE electrical transmission system would be needed to transmit the electricity generated from the Calico Solar Project and are identified as a reasonably foreseeable future actions in the Final EIS. The existing SCE transmission lines have the ability to handle about 275 MW of generation and upgrades would be needed to handle all of the proposed new capacity of 850 MW. These upgrades would be built outside of the Calico Solar Project site and are being considered by the BLM as a separate ROW grant application that will require separate NEPA review. The SCE upgrades would also require licensing by the California Public Utilities Commission and separate environmental review under the California Environmental Quality Act.

The BLM is also considering amending the CDCA Plan as part of processing the project proposal. The CDCA Plan, while recognizing the potential compatibility of solar generation facilities on public lands, requires that all sites associated with power generation or transmission not identified in that Plan be considered through the plan amendment process. If the BLM decides to approve the ROW authorization, the BLM must also amend the CDCA Plan.

In the Final EIS analysis, the BLM's proposed action is to authorize the modified 850 MW Calico Solar project and approve the CDCA Plan amendment in response to the application received from Calico Solar, LLC. The action alternatives include the: (1) 850-MW Proposed Action (8,230 acres (13 square miles)); (2) 850-MW Agency Preferred Alternative (6,512 acres (9.7 square miles)); (3) 275-MW Reduced Acreage Alternative (2,320 acres (3.6 square miles)); and (4) 850-MW Avoidance of Donated and Acquired Lands Alternative (7,050 acres (11 square miles)) which avoids 1,718 acres of donated and LWCF-acquired lands (included as part of the Proposed Action and Agency Preferred Alternative). The latter alternative was described in the Staff Assessment (SA)/Draft EIS to accommodate 28,800 SunCatchers and generate 720 MW, but the Applicant has since conducted more detailed site analysis which indicates that this alternative could accommodate 34,000 SunCatchers and generate 850 MW of electricity from solar thermal power.

The Final EIS also analyzes three alternatives under which the project would not be approved: (1) Deny the Calico Solar Project ROW grant application and not amend the CDCA Plan (the “No Action ” alternative); (2) deny the Calico Solar Project ROW grant, but amend the CDCA Plan to allow other solar energy project applications on the proposed project site; and (3) deny the Calico Solar Project ROW grant and amend the CDCA Plan to prohibit solar energy project applications on the proposed project site. As part of its review of the Calico Solar, LLC application, the BLM considered the Energy Policy Act of 2005 and Secretarial Orders 3283 (Enhancing Renewable Energy Development on the Public Lands) and 3285A1 (Renewable Energy Development by the Department of the Interior).The BLM's Final EIS evaluates the potential impacts of the proposed Calico Solar Project on air quality and climate; biological resources; non-native and invasive species; cultural resources and paleontology; fire and fuels; geology, soils, topography, mineral resources and seismicity; grazing, wild horses and burros; land use, including corridor analysis; noise and vibration; public health and safety, and hazardous materials; recreation; socioeconomics and environmental justice; special designations; traffic and transportation; visual resources; wilderness characteristics; and water resources.

E-mailed and faxed protests will not be accepted as valid protests unless the protesting party also provides the original letter by either regular or overnight mail postmarked by the close of the protest period. Under these conditions, the BLM will consider the e-mailed or faxed protest as an advance copy and it will receive full consideration. If you wish to provide the BLM with such advance notification, please direct faxed protests to the attention of the BLM protest coordinator at (202) 912-7212, and e-mails to Brenda_Hudgens-Williams@blm.gov. Instructions for filing a protest with the Director of the BLM regarding the proposed CDCA Plan Amendment may be found in the “Dear Reader Letter” of the CDCA Plan Amendment/Final EIS and at 43 CFR 1610.5-2. All protests, including the follow-up letter to e-mails or faxes, must be in writing and mailed to the appropriate address, as set forth in the ADDRESSES section above. Please note that public comments will be available for public review and disclosure at the above BLM office address during regular business hours (8 a.m. to 4 p.m.), Monday through Friday, except holidays.

Before including your address, phone number, e-mail address, or other personal identifying information in any comment, you should be aware that your entire comment—including your personal identifying information—may be made publicly available at any time. While you can ask us in your comment to withhold your personal identifying information from public review, we cannot guarantee that we will be able to do so.

Authority: 40 CFR 1506.6 and 1506.10; and 43 CFR 1610.2.

Thomas Pogacnik,
Deputy State Director, Natural Resources.

[FR Doc. 2010-19470 Filed 8-5-10; 8:45 am]

BILLING CODE 4310-40-P